DEPARTMENT OF THE TREASURY

United States Mint

Notification of American Eagle 10th Anniversary Platinum Coin Set Price Increase

Summary: The United States Mint is adjusting the price for its American Eagle 10th Anniversary Platinum Coin Set.

Pursuant to the authority that 31 U.S.C. 5111(a) and 5112(k) grant the Secretary of the Treasury to mint and issue platinum coins, and to prepare and distribute numismatic items, the United States Mint minted last year and continues to issue 2007 American Eagle Platinum Proof Coins. In accordance with 31 U.S.C. 9701(b)(2)(B), the United States Mint is changing the price of this coin set to reflect the increase in value of the underlying precious metal content of the coins—the result of increases in the market price of platinum.

Accordingly, the United States Mint will commence selling the 2007 American Eagle 10th Anniversary Platinum Coin Set according to the following price schedule:

Description | Price
American Eagle 10th Anniversary Platinum Coin Set | $2,649.95

For Further Information Contact: Gloria C. Eskridge, Associate Director for Sales and Marketing; United States Mint; 801 Ninth Street, NW.; Washington, DC 20220; or call 202-354-7500.

Authority: 31 U.S.C. 5111, 5112 & 9701.

Dated: April 9, 2008.
Edmund C. Moy,
Director, United States Mint.

[FR Doc. E8-7900 Filed 4-11-08; 8:45 am]

BILLING CODE 4810-02-P